DEPARTMENT OF THE INTERIOR

Bureau of Reclamation

California Bay-Delta Public Advisory Committee Public Meetings

AGENCY: Bureau of Reclamation, Interior.

ACTION: Notice of meetings.

SUMMARY: In accordance with the Federal Advisory Committee Act, the California Bay-Delta Public Advisory Committee (Committee) will meet on August 10, September 7, October 12, and November 9, 2005. These meetings will focus on the State's intense effort to fulfill the Governor's mandate for an independent fiscal and management review of the CALFED Bay-Delta Program by the end of 2005. Discussions will include a refocus of CALFED on resolving conflicts in the Delta, priority setting, and development of an action plan to finance CALFED over the next 10 years.

DATES: The next four Committee meetings will be held on Wednesday, August 10, 2005; Wednesday, September 7, 2005; Wednesday, October 12, 2005; and Wednesday, November 9, 2005 from 9 a.m. to 4 p.m. If reasonable accommodation is needed due to a disability, please contact Pauline Nevins at (916) 445-5511 or TDD (800) 735-2929 at least 1 week prior to the meeting.

ADDRESSES: These meetings will be held at the John E. Moss Federal Building located at 650 Capitol Mall, 5th Floor, Sacramento, California.

FOR FURTHER INFORMATION CONTACT: Keith Coolidge, California Bay-Delta Authority, at 916-445-0092, or Diane Buzzard, U.S. Bureau of Reclamation, at 916-978-5022.

SUPPLEMENTARY INFORMATION: The Committee was established to provide advice and recommendations to the Secretary of the Interior on implementation of the CALFED Bay-Delta Program. The Committee makes recommendations on annual priorities, integration of the eleven Program elements, and overall balancing of the four Program objectives of ecosystem restoration, water quality, levee system integrity, and water supply reliability. The Program is a consortium of State and Federal agencies with the mission to develop and implement a long-term comprehensive plan that will restore ecological health and improve water management for beneficial uses of the San Francisco/Sacramento and San Joaquin Bay Delta.

Committee agendas and meeting materials will be available prior to all meetings on the California Bay-Delta Authority Web site at http://calwater.ca.gov and at the meetings. These meetings are open to the public. Oral comments will be accepted from members of the public at each meeting and will be limited to 3-5 minutes.

(Authority: The Committee was established pursuant to the Department of the Interior's authority to implement the Water Supply, Reliability, and Environmental Improvement Act, Pub. L. 108-361; the Fish and Wildlife Coordination Act, 16 U.S.C. 661 et. seq.; the Endangered Species Act, 16 U.S.C. 1531 et. seq.; and the Reclamation Act of 1902, 43 U.S.C. 391 et. seq., and the acts amendatory thereof or supplementary thereto, all collectively referred to as the Federal Reclamation laws, and in particular, the Central Valley Project Improvement Act, 34 U.S.C. 3401.)

Dated: July 7, 2005.
Allan Oto,
Special Projects Officer, Mid-Pacific Region, U.S. Bureau of Reclamation.

[FR Doc. 05-14577 Filed 7-22-05; 8:45 am]

BILLING CODE 4310-MN-M